DEPARTMENT OF ENERGY

Federal Energy Regulatory Commission

Combined Notice of Filings #1

Take notice that the Commission received the following electric corporate filings:

Docket Numbers: EC15-23-000.

Applicants: Sunshine Gas Producers, LLC, Innovative Energy Systems, LLC, Seneca Energy II, LLC, Brooklyn Navy Yard Cogeneration Partners, L.P., Selkirk Cogen Partners, L.P., Kleen Energy Systems, LLC, Berkshire Power Company, LLC, Chambers Cogeneration, Limited Partnership, Edgecombe Genco, LLC, Logan Generating Company, LP, Northampton Generating Company, L.P., RC Cape May Holdings, LLC, Scrubgrass Generating Company, L.P., Spruance Genco, LLC, Newark Energy Center, LLC, EIF Newark, LLC, Plum Point Energy Associates, LLC, Plum Point Services Company, LLC, Panoche Energy Center, LLC.

Description: Application Under FPA Section 203 of the Federal Power Act of the EIF Applicants.

Filed Date: 11/5/14.

Accession Number: 20141105-5250.

Comments Due: 5 p.m. ET 11/26/14.

Docket Numbers: EC15-24-000.

Applicants: Mammoth Plains Wind Project, LLC.

Description: Application for Authorization Under Section 203 of the Federal Power Act and Request for Expedited Action of Mammoth Plains Wind Project, LLC.

Filed Date: 11/5/14.

Accession Number: 20141105-5254.

Comments Due: 5 p.m. ET 11/26/14.

Take notice that the Commission received the following electric rate filings:

Docket Numbers: ER14-2928-001.

Applicants: Arizona Public Service Company.

Description: Tariff Amendment per 35.17(b): OATT Administrative Changes—Schedules 4 and 10 to be effective 11/23/2014.

Filed Date: 11/6/14.

Accession Number: 20141106-5059.

Comments Due: 5 p.m. ET 11/28/14.

Docket Numbers: ER14-2956-001.

Applicants: Hoopeston Wind, LLC.

Description: Second Supplement to September 26, 2014 and October 22, 2014 Hoopeston Wind, LLC tariff filing.

Filed Date: 11/5/14.

Accession Number: 20141105-5257.

Comments Due: 5 p.m. ET 11/17/14.

Docket Numbers: ER15-230-000.

Applicants: GP Renewables & Trading, LLC.

Description: Second supplement to October 29, 2014 GP Renewables & Trading, LLC tariff filing.

Filed Date: 11/5/14.

Accession Number: 20141105-5253.

Comments Due: 5 p.m. ET 11/19/14.

Docket Numbers: ER15-349-000.

Applicants: Southern California Edison Company.

Description: § 205(d) rate filing per 35.13(a)(2)(iii): IFA with City of Victorville for St. Mary's Medical Center WDAT Load Project to be effective 1/6/2015.

Filed Date: 11/6/14.

Accession Number: 20141106-5002.

Comments Due: 5 p.m. ET 11/28/14.

Docket Numbers: ER15-350-000.

Applicants: Southwest Power Pool, Inc.

Description: § 205(d) rate filing per 35.13(a)(2)(iii): 1883R3 Westar Energy, Inc. NITSA and NOA to be effective 8/1/2014.

Filed Date: 11/6/14.

Accession Number: 20141106-5032.

Comments Due: 5 p.m. ET 11/28/14.

Docket Numbers: ER15-351-000.

Applicants: Idaho Power Company.

Description: Tariff Withdrawal per 35.15: Notice of Cancellation of Communications Replacement Agreement with PacifiCorp to be effective 1/28/2015.

Filed Date: 11/6/14.

Accession Number: 20141106-5048.

Comments Due: 5 p.m. ET 11/28/14.

Docket Numbers: ER15-352-000.

Applicants: Tampa Electric Company.

Description: § 205(d) rate filing per 35.13(a)(2)(iii): Rate Schedule No. 21 with City of Lakeland—Amendment to Exhibit A to be effective 11/7/2014.

Filed Date: 11/6/14.

Accession Number: 20141106-5052.

Comments Due: 5 p.m. ET 11/28/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 6, 2014.
Nathaniel J. Davis, Sr.,
Deputy Secretary.

[FR Doc. 2014-27099 Filed 11-14-14; 8:45 am]

BILLING CODE 6717-01-P